DEPARTMENT OF ENERGY

Federal Energy Regulatory Commission

[Docket No. CP15-8-000]

Northwest Pipeline LLC; Notice of Extension of Time Request

Take notice that on March 12, 2020, Northwest Pipeline LLC (Northwest) requested that the Federal Energy Regulatory Commission (Commission) grant an extension of time, until April 11, 2022, to construct and place into service the facilities for its Kalama Lateral Project authorized on April 11, 2016. The Kalama Lateral Project would enable Northwest to provide service to the proposed methanol facility of Northwest Innovation Works Kalama LLC (NWIW).

Northwest was initially required to construct the facilities and place them into service by April 11, 2018. On April 11, 2018, the Office of Energy Projects, by delegated order, extended the deadline through April 11, 2019. On April 10, 2019 the Office of Energy Projects, by delegated order, extended the deadline through April 11, 2020. Northwest now requests a two-year extension of this deadline through April 11, 2022. Northwest states that the basis for the previous extensions of time, as well as this one, are based upon permitting issues encountered by the NWIW methanol plant.

This notice establishes a 15-calendar day intervention and comment period deadline. Any person wishing to comment on the extension motion may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10). However, only motions to intervene from entities that were party to the underlying proceeding will be accepted.

As a matter of practice, the Commission itself generally acts on requests for extensions of time to complete construction for NGA facilities when such requests are contested before order issuance. For those extension requests that are contested,¹ the Commission acting as a whole will aim to issue an order acting on the request within 45 days.² The Commission will address all arguments relating to whether the applicant has demonstrated there is good cause to grant the extension. The Commission will not consider arguments that re-litigate the issuance of the certificate order, including whether the Commission properly found the project to be in the public convenience and necessity and whether the Commission's environmental analysis for the certificate complied with the National Environmental Policy Act.³ At the time a pipeline requests an extension of time, orders on certificates of public convenience and necessity are final and the Commission will not re-litigate their issuance. The OEP Director, or his or her designee, will act on all of those extension requests that are uncontested.

¹ Contested proceedings are those where an intervenor disputes any material issue of the filing. 18 CFR 385.2201(c)(1) (2019).

² Algonquin Gas Transmission, LLC, 170 FERC ¶ 61,144, at P 40 (2020).

³ Similarly, the Commission will not re-litigate the issuance of an NGA section 3 authorization, including whether a proposed project is not inconsistent with the public interest and whether the Commission's environmental analysis for the permit order complied with NEPA.

The extension request is available for review at the Commission in the Public Reference Room or may be viewed on the Commission's website web at http://www.ferc.gov using the “eLibrary” link. Enter the docket number excluding the last three digits in the docket number field to access the document. For assistance, contact FERC at FERCOnlineSupport@ferc.gov or call toll-free, (886) 208-3676 or TYY, (202) 502-8659.

The Commission strongly encourages electronic filings of comments, protests and interventions in lieu of paper using the “eFiling” link at http://www.ferc.gov. Persons unable to file electronically should submit an original and three copies of the protest or intervention to the Federal Energy Regulatory Commission, 888 First Street NE, Washington, DC 20426.

Comment Date: 5:00 p.m. Eastern Time on April 1, 2020.

Dated: March 17, 2020.
Nathaniel J. Davis, Sr.,
Deputy Secretary.

[FR Doc. 2020-06816 Filed 4-1-20; 8:45 am]

BILLING CODE 6717-01-P